DEPARTMENT OF THE TREASURY

Office of Foreign Assets Control

31 CFR Part 548

Belarus Sanctions Regulations

AGENCY: Office of Foreign Assets Control, Treasury.

ACTION: Final rule.

SUMMARY: The Department of the Treasury's Office of Foreign Assets Control (“OFAC”) is amending the Belarus Sanctions Regulations (“BSR”) in the Code of Federal Regulations to authorize U.S. persons to engage in otherwise prohibited transactions with two blocked entities, Lakokraska OAO and/or Polotsk Steklovolokno OAO, until May 31, 2011. In addition, OFAC is amending the BSR to make a technical correction to the authority citation.

DATES: Effective Date: November 30, 2010.

FOR FURTHER INFORMATION CONTACT: Assistant Director for Compliance, Outreach & Implementation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (http://www.treas.gov/ofac). Certain general information pertaining to OFAC's sanctions programs also is available via facsimile through a 24-hour fax-on-demand service, tel.: 202/622-0077.

Background

The Belarus Sanctions Regulations, 31 CFR part 548 (“BSR”), implement Executive Order 13405 of June 16, 2006, “Blocking Property of Certain Persons Undermining Democratic Processes or Institutions in Belarus” (“E.O. 13405”). Pursuant to E.O. 13405, on May 15, 2008, OFAC designated the entities Lakokraska OAO and Polotsk Steklovolokno OAO, blocking their property and interests in property (73 FR 29849, May 22, 2008). On September 4, 2008, before the publication of the BSR, OFAC issued and posted on its Web site Belarus General License No. 1, which authorized all transactions between U.S. persons and Lakokraska OAO and/or Polotsk Steklovolokno OAO from September 4, 2008, until March 2, 2009. This authorization was subject to the proviso that all property and interests in property of Lakokraska OAO or Polotsk Steklovolokno OAO that previously had been blocked pursuant to E.O. 13405 were to remain blocked. OFAC subsequently amended Belarus General License No. 1 four times to extend its authorization for transactions between U.S. persons and the two entities. The latest of those amendments, Belarus General License No. 1-D, extended the authorization for all transactions between U.S. persons and Lakokraska OAO and/or Polotsk Steklovolokno OAO until November 30, 2010.

The BSR were published on February 3, 2010 (75 FR 5502). Section 548.509 of the BSR memorialized General License No. 1, as amended, and authorized all transactions between U.S. persons and Lakokraska OAO and/or Polotsk Steklovolokno OAO for a limited period of time. Today, OFAC is amending section 548.509(a) of the BSR to extend the authorization until May 31, 2011. U.S. persons may continue to engage in all transactions otherwise prohibited by the BSR with Lakokraska OAO and/or Polotsk Steklovolokno OAO, except that, as provided in section 548.509(b), any property and interests in property that were blocked prior to September 4, 2008, still remain blocked.

This rule also corrects a typographical error in the BSR's authority citation.

Public Participation

Because the amendments of the Regulations involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 548

Administrative practice and procedure, Banks, Banking, Belarus, Blocking of assets, Credit, Foreign trade, Penalties, Reporting and recordkeeping requirements, Securities, Services.

For the reasons set forth in the preamble, the Department of the Treasury's Office of Foreign Assets Control amends 31 CFR part 548 as follows:

PART 548—BELARUS SANCTIONS REGULATIONS

1. Revise the authority citation to part 548 to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); E.O. 13405, 71 FR 35485; 3 CFR, 2007 Comp., p. 231.

Subpart E—Licenses, Authorizations, and Statements of Licensing Policy

2. Revise § 548.509(a) to read as follows:

§ 548.509 Transactions with certain blocked persons authorized.

(a) Except as provided in paragraph (b) of this section, U.S. persons are authorized to engage in all transactions otherwise prohibited by this part with Lakokraska OAO and/or Polotosk Steklovolokno OAO, entities whose property and interests in property are blocked pursuant to § 548.201(a)(2), until May 31, 2011.

* * * * *

Dated: November 23, 2010.
Adam J. Szubin,
Director, Office of Foreign Assets Control.

[FR Doc. 2010-30182 Filed 11-29-10; 8:45 am]

BILLING CODE 4810-AL-P